DEPARTMENT OF HEALTH AND HUMAN SERVICES

Centers for Medicare & Medicaid Services

[Document Identifier: CMS-372(S), CMS-10190, CMS-10183, CMS-R-262 , CMS-10196 and CMS-10193]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Annual Report on Home and Community-Based Services Waivers and Supporting Regulations in 42 CFR 440.180 and 441.300-310; Use: States with an approved waiver under Section 1915(c) of the Social Security Act are required to submit a report annually in order for CMS to: (1) Verify that State assurances regarding waiver cost-neutrality are met; and (2) determine the waiver's impact on the type, amount, and cost of services provided under the State Plan and health and welfare of recipients. Form Number: CMS-372(S) (OMB#: 0938-0272); Frequency: Annually; Affected Public: State, Local or Tribal Government; Number of Respondents: 50; Total Annual Responses: 287; Total Annual Hours: 21,525.

2. Type of Information Collection Request: Extension of a currently approved collection; Title of Information Collection: State Plan Preprints to Implement Sections of the Deficit Reduction Act (DRA) of 2006; Use: This information collection is requested to allow States to submit State Plan preprints to CMS for review and approval. The DRA provides States with the flexibility to request through the use of State Plan preprints changes in benefit packages, cost sharing, non-emergency medical transportation services, etc. CMS will send State Medicaid Director letters and State Plan preprints to States in an effort to request these changes, if they so choose, and to make the process as simple as possible.; Form Number: CMS-10190 (OMB#: 0938-0993); Frequency: Other: One-time; Affected Public: State, Local or Tribal Government; Number of Respondents: 56; Total Annual Responses: 56; Total Annual Hours: 56.

3. Type of Information Collection Request: New Collection; Title of Information Collection: National Evaluation of the Demonstration to Improve the Direct Service Community Workforce; Use: The purpose of this research is to perform a national evaluation of the impact of ten demonstration grants awarded by CMS. These demonstration grants support various interventions to improve the recruitment and retention of direct service workers. The data will permit the national evaluation to compare and contrast the processes and outcomes of the ten demonstration projects. The evaluation will provide an understanding of which types of interventions are most likely to be effective under a range of circumstances. The data collections consist of six components. From participating sites this will include: 200 agencies, 4,000 direct service workers, and 4,000 consumers. From control sites this will include 50 agencies, 1,333 direct service workers, and 1,333 consumers. All data will be collected using mail surveys; Form Number: CMS-10183 (OMB#: 0938-NEW); Frequency: Other: One-time; Affected Public: Individuals or Households, Business or other for-profit, and Not-for-profit institutions; Number of Respondents: 10,916; Total Annual Responses: 10,916; Total Annual Hours: 10,916.

4. Type of Information Collection Request: Extension of a currently approved collection; Title of Information Collection: Plan Benefit Package (PBP) and Formulary Submission for Medicare Advantage (MA) Plans and Prescription Drug Plans (PDPs); Use: Under the Medicare Modernization Act (MMA), Medicare Advantage (MA) and Prescription Drug Plan (PDP) organizations are required to submit plan benefit packages for all Medicare beneficiaries residing in their service area. CMS requires that MA and PDP organizations submit a completed formulary and PBP as part of the annual bidding process. During this process, organizations prepare their proposed plan benefit packages for the upcoming contract year and submit them to CMS for review and approval; Form Number: CMS-R-262 (OMB#: 0938-0763); Frequency: On occasion, Annually, and Other: As required by new legislation; Affected Public: Business or other for-profit and Not-for-profit institutions; Number of Respondents: 553; Total Annual Responses: 5,807; Total Annual Hours: 13,272.

5. Type of Information Collection Request: New Collection; Title of Information Collection: Medicare Part C Audit Guide, Version 4.0 and Supporting Regulation contained in 42 CFR Section 423.502; Use: The Medicare Modernization Act provides CMS the regulatory authority to audit, evaluate, or inspect any Part C sponsors' performance related to the law in the areas including enrollment & disenrollment, marketing, benefits and beneficiary protections, quality assurance, provider relations and contracts. The information collected will be an integral resource for oversight, monitoring, compliance, and auditing activities necessary to ensure quality provision of the Part C Medicare Advantage benefit to beneficiaries; Form Number: CMS-10196 (OMB#: 0938-New); Frequency: Recordkeeping and Reporting—Annually; Affected Public: Business or other for-profit; Number of Respondents: 393; Total Annual Responses: 393; Total Annual Hours: 12,576.

6. Type of Information Collection Request: New Collection; Title of Information Collection: Medicare Clinical Laboratory Services Competitive Bidding Demonstration Project—Bidding Form; Use: The Medicare Clinical Laboratory Competitive Bidding Demonstration is mandated by section 302(b) of the Medicare Prescription Drug, Improvement and Modernization Act (MMA) of 2003. The purpose of the demonstration is to determine whether competitive bidding can be used to provide quality laboratory services at prices below current Medicare reimbursement rates. The application is to collect information from organizations that supply clinical laboratory services to Medicare beneficiaries in the Competitive Bidding Area (CBA). This information will be used to determine bidding status, winners under the bidding competition, and the competitively-determined fee schedule for demonstration tests. The winning laboratories will be selected based on multiple criteria, including price bid, laboratory capacity, service area, and quality. Multiple winners are expected in each competitive acquisition area.; Form Number: CMS-10193 (OMB#: 0938-New); Frequency: Reporting—Other: once every three years.; Affected Public: Business or other for-profit; Number of Respondents: 80; Total Annual Responses: 80; Total Annual Hours: 7010.

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: July 20, 2006.
Michelle Shortt,
Director, Regulations Development Group, Office of Strategic Operations and Regulatory Affairs.

[FR Doc. E6-12035 Filed 7-27-06; 8:45 am]

BILLING CODE 4120-01-P